DEPARTMENT OF HOMELAND SECURITY

Federal Emergency Management Agency

[Docket ID FEMA-2018-0002]

Changes in Flood Hazard Determinations

AGENCY: Federal Emergency Management Agency, DHS.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

David I. Maurstad,
Deputy Associate Administrator for Insurance and Mitigation, Department of Homeland Security, Federal Emergency Management Agency.

State and county | Location and case No. | Chief executive officer of community | Community map repository | Date of modification | Community No.
Florida:
Brevard (FEMA Docket No.: B-1845) | City of Cape Canaveral (18-04-3826P) | The Honorable Bob Hoog, Mayor, City of Cape Canaveral, 100 Polk Avenue, Cape Canaveral, FL 32920 | Community Development Department, 100 Polk Avenue, Cape Canaveral, FL 32920 | Oct. 16, 2018 | 125094
Charlotte (FEMA Docket No.: B-1845) | Unincorporated areas of Charlotte County (18-04-2509P) | The Honorable Ken Doherty, Chairman, Charlotte County Board of Commissioners, 18500 Murdock Circle, Suite 536, Port Charlotte, FL 33948 | Charlotte County Community Development Department, 18500 Murdock Circle, Port Charlotte, FL 33948 | Oct. 16, 2018 | 120061
Charlotte (FEMA Docket No.: B-1845) | Unincorporated areas of Charlotte County (18-04-3229P) | The Honorable Ken Doherty, Chairman, Charlotte County Board of Commissioners, 18500 Murdock Circle, Suite 536, Port Charlotte, FL 33948 | Charlotte County Community Development Department, 18500 Murdock Circle, Port Charlotte, FL 33948 | Oct. 10, 2018 | 120061
Charlotte (FEMA Docket No.: B-1845) | Unincorporated areas of Charlotte County (18-04-3470P) | The Honorable Ken Doherty, Chairman, Charlotte County Board of Commissioners, 18500 Murdock Circle, Suite 536, Port Charlotte, FL 33948 | Charlotte County Community Development Department, 18500 Murdock Circle, Port Charlotte, FL 33948 | Oct. 11, 2018 | 120061
Lee (FEMA Docket No.: B-1845) | Town of Fort Myers Beach (18-04-2108P) | The Honorable Tracey Gore, Mayor, Town of Fort Myers Beach, 2525 Estero Boulevard, Fort Myers Beach, FL 33931 | Community Development Department, 2525 Estero Boulevard, Fort Myers Beach, FL 33931 | Oct. 15, 2018 | 120673
Monroe (FEMA Docket No.: B-1845) | Unincorporated areas of Monroe County (18-04-3505P) | The Honorable David Rice, Mayor, Monroe County Board of Commissioners, 1100 Simonton Street Key West, FL 33040 | Monroe County Building Department, 2798 Overseas Highway, Suite 300, Marathon, FL 33050 | Oct. 19, 2018 | 125129
Monroe (FEMA Docket No.: B-1845) | Unincorporated areas of Monroe County (18-04-3566P) | The Honorable David Rice, Mayor, Monroe County Board of Commissioners, 1100 Simonton Street, Key West, FL 33040 | Monroe County Building Department, 2798 Overseas Highway, Suite 300, Marathon, FL 33050 | Oct. 10, 2018 | 125129
Nassau (FEMA Docket No.: B-1845) | Unincorporated areas of Nassau County (18-04-3296P) | The Honorable Pat Edwards, Chairman, Nassau County Board of Commissioners, 96135 Nassau Place, Suite 1, Yulee, FL 32097 | Nassau County Building Department, 96161 Nassau Place, Yulee, FL 32097 | Oct. 11, 2018 | 120170
Kentucky:
Hopkins (FEMA Docket No.: B-1848) | City of Mortons Gap (18-04-0717P) | The Honorable Chris Phelps, Mayor, City of Mortons Gap, P.O. Box 367, Mortons Gap, KY 42440 | Hopkins County Joint Planning Commission, 10 South Main Street, Room 12, Madisonville, KY 42431 | Oct. 18, 2018 | 210116
Hopkins (FEMA Docket No.: B-1848) | Unincorporated areas of Hopkins County (18-04-0717P) | The Honorable Donald E. Carroll, Hopkins County Judge-Executive, 56 North Main Street, Madisonville, KY 42431 | Hopkins County Joint Planning Commission, 10 South Main Street, Room 12, Madisonville, KY 42431 | Oct. 18, 2018 | 210112
Maine:
Washington (FEMA Docket No.: B-1845) | Town of Charlotte (18-01-1031P) | The Honorable Ernest James, Chairman, Town of Charlotte Board of Selectmen, P.O. Box 55, Pembroke, ME 04666 | Town Hall, 1098 Ayers Junction Road, Charlotte, ME 04666 | Oct. 11, 2018 | 230437
Washington (FEMA Docket No.: B-1845) | Town of Pembroke (18-01-1031P) | The Honorable Milan Jamieson, Chairman, Town of Pembroke Board of Selectmen, P.O. Box 247, Pembroke, ME 04666 | Town Hall, 48 Old County Road, Pembroke, ME 04666 | Oct. 11, 2018 | 230143
Washington (FEMA Docket No.: B-1845) | Town of Robbinston (18-01-1031P) | The Honorable Tom Moholland, Chairman, Town of Robbinston Board of Selectmen, 986 Ridge Road, Robbinston, ME 04671 | Town Hall, 904 U.S. Route 1, Robbinston, ME 04671 | Oct. 11, 2018 | 230321
Massachusetts: Bristol (FEMA Docket No.: B-1845) | Town of Westport (18-01-0550P) | The Honorable Shana M. Shufelt, Chair, Town of Westport Board of Selectmen, 816 Main Road, Westport, MA 02790 | Building Department, 856 Main Road, Westport, MA 02790 | Oct. 12, 2018 | 255224
North Carolina: Iredell (FEMA Docket No.: B-1845) | Unincorporated areas of Iredell County (18-04-1249P) | The Honorable James Mallory, III, Chairman, Iredell County Board of Commissioners, P.O. Box 788, Statesville, NC 28687 | Iredell County Planning Department, 349 North Center Street, Statesville, NC 28687 | Oct. 17, 2018 | 370313
South Carolina: Lexington (FEMA Docket No.: B-1845) | Town of Irmo (18-04-3966P) | The Honorable Hardy K. King, Mayor, Town of Irmo, 501 Doncaster Drive, Irmo, SC 29063 | Town Hall, 7300 Woodrow Street, Irmo, SC 29063 | Oct. 12, 2018 | 450133
Texas:
Bexar (FEMA Docket No.: B-1848) | City of San Antonio (17-06-3967P) | The Honorable Ron Nirenberg, Mayor, City of San Antonio, P.O. Box 839966, San Antonio, TX 78283 | Transportation and Capital Improvements Department, Storm Water Division, 1901 South Alamo Street, 2nd Floor, San Antonio, TX 78204 | Oct. 22, 2018 | 480045
Bexar (FEMA Docket No.: B-1848) | City of San Antonio (18-06-0180P) | The Honorable Ron Nirenberg, Mayor, City of San Antonio, P.O. Box 839966, San Antonio, TX 78283 | Transportation and Capital Improvements Department, Storm Water Division, 1901 South Alamo Street, 2nd Floor, San Antonio, TX 78204 | Oct. 22, 2018 | 480045
Collin (FEMA Docket No.: B-1845) | City of Plano (18-06-0609P) | The Honorable Harry LaRosiliere, Mayor, City of Plano, 1520 K Avenue, Plano, TX 75074 | Engineering Department, 1520 K Avenue, Suite 250, Plano, TX 75074 | Oct. 12, 2018 | 480140
Collin (FEMA Docket No.: B-1845) | Unincorporated areas of Collin County (18-06-0382P) | The Honorable Keith Self, Collin County Judge, 2300 Bloomdale Road, Suite 4192, McKinney, TX 75071 | Collin County Emergency Management Department, 4690 Community Avenue, Suite 200, McKinney, TX 75071 | Oct. 15, 2018 | 480130
Dallas (FEMA Docket No.: B-1848) | City of Coppell (18-06-0712P) | The Honorable Karen Hunt, Mayor, City of Coppell, 255 Parkway Boulevard, Coppell, TX 75019 | Engineering Department, 255 Parkway Boulevard, Coppell, TX 75019 | Oct. 22, 2018 | 480170
Dallas (FEMA Docket No.: B-1848) | City of Dallas (17-06-4026P) | The Honorable Michael S. Rawlings, Mayor, City of Dallas, 1500 Marilla Street, Suite 5EN, Dallas, TX 75201 | Floodplain and Drainage Management Department, 320 East Jefferson Street, Suite 307, Dallas, TX 75203 | Oct. 22, 2018 | 480171
Dallas (FEMA Docket No.: B-1845) | City of Dallas (18-06-0377P) | The Honorable Michael S. Rawlings, Mayor, City of Dallas, 1500 Marilla Street, Suite 5EN, Dallas, TX 75201 | Floodplain Management Department, 320 East Jefferson Boulevard, Room 307, Dallas, TX 75203 | Oct. 15, 2018 | 480171
El Paso (FEMA Docket No.: B-1845) | City of El Paso (16-06-3207P) | Mr. Tommy Gonzalez, Manager, City of El Paso, 300 North Campbell Street, El Paso, TX 79901 | City Hall, 801 Texas Avenue, El Paso, TX 79901 | Oct. 15, 2018 | 480214
Montgomery (FEMA Docket No.: B-1845) | City of Magnolia (18-06-1973P) | The Honorable Todd Kana, Mayor, City of Magnolia, 18111 Buddy Riley Boulevard, Magnolia, TX 77354 | City Hall, 18111 Buddy Riley Boulevard, Magnolia, TX 77354 | Oct. 12, 2018 | 481261
Montgomery (FEMA Docket No.: B-1845) | Unincorporated areas of Montgomery County (18-06-1973P) | The Honorable Craig Doyal, Montgomery County Judge, 501 North Thompson Street, Suite 401, Conroe, TX 77301 | Montgomery County Permit Office, 501 North Thompson Street, Suite 100, Conroe, TX 77301 | Oct. 12, 2018 | 480483
Parker (FEMA Docket No.: B-1845) | City of Fort Worth (18-06-1767P) | The Honorable Betsy Price, Mayor, City of Fort Worth, 200 Texas Street, Fort Worth, TX 76102 | Transportation and Public Works Department, 200 Texas Street, Fort Worth, TX 76102 | Oct. 22, 2018 | 480596
Rockwall (FEMA Docket No.: B-1845) | City of Rockwall (18-06-0382P) | The Honorable Jim Pruitt, Mayor, City of Rockwall, 385 South Goliad Street, Rockwall, TX 75087 | Engineering Department, 385 South Goliad Street, Rockwall, TX 75087 | Oct. 15, 2018 | 480547
Tarrant (FEMA Docket No.: B-1848) | City of Grapevine (18-06-0712P) | The Honorable William D. Tate, Mayor, City of Grapevine, P.O. Box 95104, Grapevine, TX 76099 | City Hall, 200 South Main Street, Grapevine, TX 76099 | Oct. 22, 2018 | 480598
Tarrant (FEMA Docket No.: B-1845) | City of Kennedale (18-06-0322P) | The Honorable Brian Johnson, Mayor, City of Kennedale, 405 Municipal Drive, Kennedale, TX 76060 | Planning and Development Department, 405 Municipal Drive, Kennedale, TX 76060 | Oct. 15, 2018 | 480603
Tarrant (FEMA Docket No.: B-1845) | City of Mansfield (18-06-0226P) | The Honorable David L. Cook, Mayor, City of Mansfield, 1200 East Broad Street, Mansfield, TX 76063 | City Hall, 1200 East Broad Street, Mansfield, TX 76063 | Oct. 11, 2018 | 480606
Tom Green (FEMA Docket No.: B-1845) | City of San Angelo (18-06-0816P) | The Honorable Brenda Gunter, Mayor, City of San Angelo, 72 West College Avenue, San Angelo, TX 76903 | City Hall, 301 West Beauregard Avenue, San Angelo, TX 76903 | Oct. 16, 2018 | 480623
Virginia:
Fairfax (FEMA Docket No.: B-1845) | Unincorporated areas of Fairfax County (18-03-0171P) | The Honorable Sharon Bulova, Chair, Fairfax County Board of Supervisors, 12000 Government Center Parkway, Fairfax, VA 22035 | Fairfax County Stormwater Planning Division, 12000 Government Center Parkway, Suite 449, Fairfax, VA 22035 | Oct. 12, 2018 | 515525
Prince William (FEMA Docket No.: B-1845) | Unincorporated areas of Prince William County (18-03-0171P) | Mr. Christopher E. Martino, Prince William County Executive, 1 County Complex Court, Prince William, VA 22192 | Prince William County Department of Public Works, 5 County Complex Court, Prince William, VA 22192 | Oct. 12, 2018 | 510119

[FR Doc. 2018-26129 Filed 11-30-18; 8:45 am]

BILLING CODE 9110-12-P